DEPARTMENT OF ENERGY

Federal Energy Regulatory Commission

[Docket No. EF01-4021-000, et al.]

Southwestern Power Administration, et al.; Electric Rate and Corporate Regulation Filings

September 12, 2001.

Take notice that the following filings have been made with the Commission:

1. Southwestern Power Administration

[Docket No. EF01-4021-000]

Take notice that the Deputy Secretary, U.S. Department of Energy, on August 31, 2001, submitted to the Federal Energy Regulatory Commission (FERC) for confirmation and approval on a final basis, pursuant to the authority vested in the FERC by Delegation Order No. 0204-172, November 24, 1999, an annual power rate of $353,700 for the sale of power and energy by the Southwestern Power Administration (Southwestern) from the Robert Douglas Willis Hydropower Project (Robert D. Willis) to Sam Rayburn Municipal Power Agency (SRMPA). The rate was confirmed and approved on an interim basis by the Deputy Secretary in Rate Order No. SWPA-46 for the period October 1, 2001, through September 30, 2005, and has been submitted to FERC for confirmation and approval on a final basis for the same period. The annual rate of $353,700 is based on the 2001 Revised Power Repayment Study for Robert D. Willis and represents an annual increase in revenue of $15,768 or 4.7 percent to satisfy repayment criteria. This rate supersedes the annual power rate of $337,932, which FERC approved on a final basis January 20, 2000, under Docket No. EF99-4081-000 for the period October 1, 1999, through September 30, 2003.

Comment date: October 3, 2001, in accordance with Standard Paragraph E at the end of this notice.

2. Southwestern Power Administration

[Docket No. EF01-4081-000]

Take notice that the Deputy Secretary, U.S. Department of Energy, on August 31, 2001, submitted to the Federal Energy Regulatory Commission (FERC) for confirmation and approval on a final basis, pursuant to the authority vested in the FERC by Delegation Order No. 0204-172, November 24, 1999, an annual power rate of $2,077,632 for the sale of power and energy by the Southwestern Power Administration (Southwestern) from the Sam Rayburn Hydropower Project (Rayburn) to Sam Rayburn Dam Electric Cooperative, Inc. (SRDEC). The rate was confirmed and approved on an interim basis by the Deputy Secretary in Rate Order No. SWPA-47 for the period October 1, 2001, through September 30, 2005, and has been submitted to FERC for confirmation and approval on a final basis for the same period. The annual rate of $2,077,632 is based on the 2001 Revised Power Repayment Study for Rayburn and represents an annual decrease in revenue of $90,504, or 4.2 percent, the lowest possible rate required to meet cost recovery criteria.

This rate supersedes the annual power rate of $2,168,136, which FERC approved on a final basis December 7, 1994, under Docket No. EF94-4021-000 for the period January 1, 1994, through September 30, 1998. The rate was extended for three years, in one-year intervals, with the most recent effective October 1, 2000, through September 30, 2001, in accordance with the Secretary of Energy's interim approval, dated September 15, 2000, 65 FR 55953.

Comment date: October 3, 2001, in accordance with Standard Paragraph E at the end of this notice.

3. NRG International Holdings (No. 2) GmbH

[Docket No. EG01-298-000]

Take notice that on August 31, 2001, NRG Holdings Company (No. 2) GmbH (Holdings), filed with the Federal Energy Regulatory Commission (Commission), an application for determination of exempt wholesale generator status pursuant to part 365 of the Commission's regulations.

Holdings is a Gesellschaft mit beschränkter Haftung (limited liability company) existing under the laws of Switzerland, and will be engaged either directly or indirectly through one or more affiliates, as defined in section 2(a)(11)(B) of PUHCA, 15 U.S.C. 79b(a)(11)(B), and exclusively in the business of owning and/or operating all or part of one or more eligible facilities, and selling electric energy at wholesale. Holdings will hold an equity interest in TermoRio S.A., which is developing and will own a 1,040 MW gas-fired cogeneration facility located in the City of Duque de Caxias, State of Rio de Janeiro, Brazil (the Facility). The Facility will be an eligible facility pursuant to Section 32(a)(2) of PUCHA. None of the electric energy produced by the Facility will be sold into the United States either at retail or otherwise.

Holdings has served a copy of the filing on the Securities and Exchange Commission and any affected state commissions.

Comment date: October 3, 2001, in accordance with Standard Paragraph E at the end of this notice. The Commission will limit its consideration of comments to those that concern the adequacy or accuracy of the application.

4. Pastoria Energy Facility, LLC

[Docket No. EG01-299-000]

Take notice that on August 31, 2001, Pastoria Energy Facility, LLC filed with the Federal Energy Regulatory Commission an application for determination of exempt wholesale generator status pursuant to part 365 of the Commission's regulations.

Pastoria Energy Facility, LLC, a Delaware limited liability company, proposes to own and operate an electric generating facility and sell the output at wholesale to electric utilities, an affiliated power marketer and other purchasers. The facility is a natural gas-fired, combined cycle generating facility, which is under construction approximately thirty miles south of Bakersfield, California.

Comment date: October 3, 2001, in accordance with Standard Paragraph E at the end of this notice. The Commission will limit its consideration of comments to those that concern the adequacy or accuracy of the application.

5. Geysers Statutory Trust

[Docket No. EG01-300-000]

Take notice that on August 31, 2001, Geysers Statutory Trust (Geysers Trust) filed with the Federal Energy Regulatory Commission (Commission) an application for determination of exempt wholesale generator (EWG) status pursuant to part 365 of the Commission's regulations.

Geysers Trust is a Connecticut statutory trust formed for the benefit of Steam heat LLC, a Delaware limited liability company. Geysers Trust received determinations of EWG status in Docket No. EG99-120-000 by letter order dated May 7, 1999, Geysers Statutory Trust, 87 F.E.R.C. ¶ 62,159 (1999); in Docket No. EG00-16-000 by letter order dated December 28, 1999, Geysers Statutory Trust, 89 F.E.R.C. ¶ 62,250 (1999); and in Docket No. EG01-72-000 by letter order dated February 13, 2001, Geysers Statutory Trust, 94 F.E.R.C. ¶ 62,132 (2001), with respect to holding legal title to and leasing nineteen (19) geothermal generating facilities located in Lake County and Sonoma County, California. The instant application reflects that Geysers Trust will be the owner/lessor of one (1) additional geothermal generating facility, the Aidlin Geothermal Project, having a net generating capacity of approximately twenty (20) megawatts, located in Sonoma County, California.

Geysers Trust further states that copies of the application were served upon the Securities and Exchange Commission and the California Public Utilities Commission.

Comment date: October 3, 2001, in accordance with Standard Paragraph E at the end of this notice. The Commission will limit its consideration of comments to those that concern the adequacy or accuracy of the application.

6. Geysers Power Company, LLC

[Docket No. EG01-301-000]

Take notice that on August 31, 2001, Geysers Power Company, LLC (Geysers Power) filed with the Federal Energy Regulatory Commission (Commission) an application for determination of exempt wholesale generator (EWG) status pursuant to Part 365 of the Commission's regulations.

Geysers Power is a Delaware limited liability company and an indirect wholly owned subsidiary of Calpine Corporation (Calpine). Geysers Power received determinations of EWG status in Docket No. EG99-109-000 by letter order dated April 28, 1999, Geysers Power Company, LLC, 87 F.E.R.C. ¶ 62,115 (1999); in Docket No. EG00-18-000 by letter order dated December 28, 2000, Geysers Power Company, LLC, 89 F.E.R.C. ¶ 62,251 (1999); and in Docket No. EG01-73-000 by letter order dated January 30, 2001, Geysers Power Company, LLC, 94 F.E.R.C. ¶ 62,079 (2001), with respect to its current lease and operation of nineteen (19) geothermal generating facilities located in Lake County and Sonoma County, California.

The instant application reflects that Geysers Power will operate, generate, and sell power exclusively for resale from one (1) additional geothermal power generation facility, the Aidlin Geothermal Project, having a net generating capacity of twenty (20) MW, located in Sonoma County, California.

Geysers Power further states that copies of the application were served upon the Securities and Exchange Commission and the California Public Utilities Commission.

Comment date: October 3, 2001, in accordance with Standard Paragraph E at the end of this notice. The Commission will limit its consideration of comments to those that concern the adequacy or accuracy of the application.

7. Entergy Nuclear Indian Point 2, LLC

[Docket No. EG01-303-000]

Take notice that on September 6, 2001, Entergy Nuclear Indian Point 2, LLC, 40 Hamilton Avenue, White Plains, NY 10601, filed with the Federal Energy Regulatory Commission an application for determination of exempt wholesale generator status pursuant to Part 365 of the Commission's regulations. The applicant is a limited liability company that will engage directly or indirectly and exclusively in the business of owning and/or operating eligible facilities in the United States and selling electric energy at wholesale. The applicant proposes to own the Indian Point Nuclear Generating Unit No. 1 and Indian Point Generating Unit No. 2, located in Westchester County, New York and related gas turbine units. The applicant seeks a determination of its exempt wholesale generator status. All electric energy sold by the applicant will be sold exclusively at wholesale.

Comment date: October 3, 2001, in accordance with Standard Paragraph E at the end of this notice. The Commission will limit its consideration of comments to those that concern the adequacy or accuracy of the application.

8. Cementos Norte Pacasmayo Energiá S.A.

[Docket No. EG01-304-000]

Take notice that on September 7, 2001, Cementos Norte Pacasmayo Energiá S.A. (CNPE), filed with the Federal Energy Regulatory Commission an application for determination of exempt wholesale generator status pursuant to Part 365 of the Commission's regulations.

CNPE is a sociedad anónima formed under the laws of Peru and will be engaged, directly and/or indirectly through its affiliates, and exclusively in the business of owning and/or operating all or part of one or more eligible facilities, and selling electric energy at wholesale. CNPE currently owns two generation facilities located in northern Peru, and, through its affiliate Arcata Energíca S.A., owns two hydroelectric power facilities in southern Peru (collectively, the Facilities). The Facilities will be eligible facilities pursuant to Section 32(a)(2) of PUHCA. None of the electric energy produced by the Facilities will be sold into the United States either at retail or otherwise.

CNPE has served a copy of the filing on the Securities and Exchange Commission and any affected state commissions.

Comment date: October 3, 2001, in accordance with Standard Paragraph E at the end of this notice. The Commission will limit its consideration of comments to those that concern the adequacy or accuracy of the application.

9. CMS Distributed Power L.L.C.

[Docket No. EG01-305-000]

Take notice that on September 4, 2001, CMS Distributed Power L.L.C., 330 Town Center Drive, Suite 1000, Dearborn, Michigan 48126, filed with the Federal Energy Regulatory Commission an application for determination of exempt wholesale generator status pursuant to Part 365 of the Commission's regulations.

CMS Distributed Power L.L.C. is a Michigan limited liability company and a is wholly-owned direct subsidiaries of CMS Enterprises Company. CMS Enterprises Company is a wholly-owned direct subsidiary of CMS Energy Corporation. CMS Distributed Power L.L.C. owns a diesel powered electrical generating facility in Zilwaukee, Michigan of approximately 14 megawatts.

Comment date: October 3, 2001, in accordance with Standard Paragraph E at the end of this notice. The Commission will limit its consideration of comments to those that concern the adequacy or accuracy of the application.

10. Arcata Energíca S.A.

[Docket No. EG01-306-000]

Take notice that on September 7, 2001, Arcata Energíca S.A. (Arcata), filed with the Federal Energy Regulatory Commission an application for determination of exempt wholesale generator status pursuant to Part 365 of the Commission's regulations.

Arcata is a sociedad anónima formed under the laws of Peru and will be engaged, directly and/or indirectly through its affiliates, and exclusively in the business of owning and/or operating all or part of one or more eligible facilities, and selling electric energy at wholesale. Arcata currently owns two generation facilities located in southern Peru (the Facilities). The Facilities will be eligible facilities pursuant to Section 32(a)(2) of PUHCA. None of the electric energy produced by the Facilities will be sold into the United States either at retail or otherwise.

Arcata has served a copy of the filing on the Securities and Exchange Commission and any affected state commissions.

Comment date: October 3, 2001, in accordance with Standard Paragraph E at the end of this notice. The Commission will limit its consideration of comments to those that concern the adequacy or accuracy of the application.

11. Empresa de Generación Eléctrica Cahua S.A.

[Docket No. EG01-307-000]

Take notice that on September 7, 2001, Empresa de Generación Eléctrica Cahua S.A. (Cahua), filed with the Federal Energy Regulatory Commission an application for determination of exempt wholesale generator status pursuant to Part 365 of the Commission's regulations.

Cahua is a sociedad anónima formed under the laws of Peru and will be engaged directly and exclusively in the business of owning and operating all or part of one or more eligible facilities, and selling electric energy at wholesale. Cahua currently owns and operates two hydroelectric facilities (the Facilities) located in central Peru. The Facilities will be eligible facilities pursuant to Section 32(a)(2) of PUHCA. In addition, Cahua operates four eligible facilities in southern and northern Peru, acting as an agent for the owners, which are exempt wholesale generators that sell electric energy at wholesale. None of the electric energy produced by the Facilities will be sold into the United States either at retail or otherwise.

Cahua has served a copy of the filing on the Securities and Exchange Commission and any affected state commissions.

Comment date: October 3, 2001, in accordance with Standard Paragraph E at the end of this notice. The Commission will limit its consideration of comments to those that concern the adequacy or accuracy of the application.

12. Midwest Independent Transmission System Operator, Inc.

[Docket Nos. ER01-123-004, ER01-780-003, ER01-966-002, ER99-3144-014, EC99-80-014, and RT01-87-002]

Take notice that on August 31, 2001, the Midwest Independent Transmission System Operator, Inc. (Midwest ISO) and the Midwest ISO Transmission Owners jointly submitted for filing revisions to the MISO Open Access Transmission Tariff (OATT) to implement proposed rates based on the methodology set forth in Article V of the “Settlement Agreement Involving the Midwest Independent Transmission System Operator, Inc., Certain Transmission Owners in the Midwest ISO, the Alliance Companies and Other Parties” (Settlement Agreement). The Midwest ISO and the Midwest ISO Transmission Owners propose that the filing become effective on the date transmission service begins under the Midwest ISO OATT (the Transmission Service Date).

Copies of this filing were served upon all parties to the Settlement Agreement proceeding and a copy is being posted on the Midwest ISO homepage (www.midwestiso.org).

Comment date: September 21, 2001, in accordance with Standard Paragraph E at the end of this notice.

13. CinCap IX, LLC.

[Docket No. ER01-2054-002]

Take notice that on September 4, 2001, CinCap IX, LLC tendered a compliance filing with the Federal Energy Regulatory Commission (Commission), for its application for authorization to sell power and ancillary services at market-based rates, and to reassign transmission capacity.

Comment date: September 25, 2001, in accordance with Standard Paragraph E at the end of this notice.

14. Louisiana Generating LLC

[Docket No. ER01-2247-001]

Take notice that on September 4, 2001, Louisiana Generating LLC (Louisiana Generating), tendered for filing with the Federal Energy Regulatory Commission (Commission), corrections to the proposed change to its Rate Schedule FERC No. 4, Original Vol. 1, originally filed on June 7, 2001. The proposed change reflects the assignment by the customer under the Rate Schedule of a portion of its power purchase rights to another party. Louisiana Generating asserts that the affected customers requested the change and consent to it. Copies of the filing were served upon Louisiana Generating's affected customers.

Comment date: September 25, 2001, in accordance with Standard Paragraph E at the end of this notice.

15. Huntington Beach Development, L.L.C.

[Docket No. ER01-2390-001]

Take notice that on September 4, 2001, Huntington Beach Development, L.L.C. (Huntington Beach) tendered for filing an amended market-based rate schedule pursuant to the Federal Energy Regulatory Commission's Order Conditionally Accepting Market-Based Rate Tariff, issued August 17, 2001.

Comment date: September 25, 2001, in accordance with Standard Paragraph E at the end of this notice.

16. Boralex Ashland Inc., Boralex Livermore Falls Inc.

[Docket Nos. ER01-2568-001 and ER01-2569-001]

Take notice that on September 4, 2001, Boralex Ashland Inc. and Boralex Livermore Falls Inc., tendered for filing with the Federal Energy Regulatory Commission (Commission), conforming tariffs pursuant to a Commission order dated August 22, 2001 in the above reference dockets.

Copies of the filing were served upon the Central Maine Power Corporation, the Maine Public Utilities Commission, and WPS Energy Services, Inc.

Comment date: September 25, 2001, in accordance with Standard Paragraph E at the end of this notice.

17. PacifiCorp Power Marketing, Inc.

[Docket No. ER01-2685-000]

Take notice that on August 31, 2001, PaficiCorp Power Marketing, Inc. (PPM) filed a Notice of Withdrawal of its Ten-Year Power Purchase Agreement between PPM and the California Department of Water Resources in the above-referenced docket number, filed with the Federal Energy Regulatory Commission on July 26, 2001.

Comment date: September 21, 2001, in accordance with Standard Paragraph E at the end of this notice.

18. International Transmission Company, DTE Energy Company

[Docket Nos. ER01-3000-000, RT01-101-000 and EC01-146-000]

Take notice that on August 31, 2001, pursuant to Section 205 of the Federal Power Act, 16 U.S.C. 824d (1994), International Transmission Company (International Transmission) tendered for filing with the Commission the “Appendix I Agreement by and between International Transmission Company and the Midwest Independent Transmission System Operator, Inc. dated August 30, 2001” (ITC-MISO Agreement). International Transmission also requests that the Commission determine that International Transmission has met the requirements of Order No. 2000 set forth in 18 CFR 35.34(c)(1) and 35.34(d)(2), to participate in a Regional Transmission Organization by joining the Midwest Independent System Operator, Inc.

Additionally, International Transmission and its corporate parent, DTE Energy Company (DTE Energy) request authority to transfer functional control of International Transmission's jurisdictional transmission facilities to the Midwest ISO under Section 203, 16 U.S.C. 824b (1994). International Transmission and DTE Energy Company also request waiver of Part 33 of the Commission's regulations (18 CFR Part 33).

Comment date: September 21, 2001, in accordance with Standard Paragraph E at the end of this notice.

19. Niagara Mohawk Power Corporation

[Docket No. ER01-2839-001]

Take notice that on September 4, 2001, Niagara Mohawk Power Corporation (NMPC), tendered for filing with the Federal Energy Regulatory Commission (Commission), pursuant to Section 205 of the Federal Power Act and Part 35 of the Commission's regulations, Commission acceptance errata cover page for the purpose of correcting the service agreement designation for the Power Purchase and Sale Agreement between NMPC and Tractebel Energy Marketing, Inc. to include its designation as NMPC, FERC Electric Rate Schedule No. 325.

Comment date: September 25, 2001, in accordance with Standard Paragraph E at the end of this notice.

20. New York Independent System Operator, Inc.

[Docket No. ER01-3001-000]

Take notice that on September 4, 2001, the New York Independent System Operator, Inc. (NYISO) filed with the Federal Energy Regulatory Commission (Commission ), revisions to amend Attachment F of the NYISO Market Administration and Control Area Services Tariff to extend the duration of its currently effective $1,000/MWh Bid Caps on certain NYISO-administered markets; and amend Attachment Q to the NYISO's Open Access Transmission Tariff and Attachment E of the ISO Services Tariff to extend its Temporary Extraordinary Procedures for Correcting Market Design Flaws and Addressing Transitional Abnormalities.

The NYISO has requested an effective date of November 1, 2001 for the filing and requests a waiver of the Commission's notice requirements.

Copies of this filing have been served on market participants that have executed service agreements under the NYISO OATT or the NYISO Services Tariff and on the electric utility regulatory agencies in New York, New Jersey, and Pennsylvania.

Comment date: September 25, 2001, in accordance with Standard Paragraph E at the end of this notice.

21. Sierra Pacific Power Company, Nevada Power Company

[Docket No. ER01-3002-000]

Take notice that on September 4, 2001, Sierra Pacific Power Company and Nevada Power Company (jointly Operating Companies) tendered for filing with the Federal Energy Regulatory Commission (Commission), a Service Agreement (Service Agreement) with Pacific Gas & Electric Company for Short-Term Firm Point-to-Point Transmission Service under Sierra Pacific Resources Operating Companies FERC Electric Tariff, First Revised Volume No. 1, Open Access Transmission Tariff (Tariff).

The Operating Companies are filing the executed Service Agreement with the Commission in compliance with Sections 13.4 and 14.4 of the Tariff and applicable Commission regulations. The Operating Companies also submitted revised Sheet Nos. 195A and 196 and Original Sheet No. 196A (Attachment E) to the Tariff, which is an updated list of current subscribers. The Operating Companies request waiver of the Commission's notice requirements to permit an effective date of September 5, 2001 for Attachment E, and to allow the Service Agreement to become effective according to their terms.

Copies of this filing were served upon the Public Utilities Commission of Nevada, the Public Utilities Commission of California and all interested parties.

Comment date: September 25, 2001, in accordance with Standard Paragraph E at the end of this notice.

22. Mid-Continent Area Power Pool

[Docket No. ER01-3003-000]

Take notice that on September 4, 2001, the Mid-Continent Area Power Pool, on behalf of its public utility members, filed with the Federal Energy Regulatory Commission (Commission), a short-term firm and non-firm transmission service agreements with MAPP members under MAPP Schedule F.

Comment date: September 25, 2001, in accordance with Standard Paragraph E at the end of this notice.

23. Tucson Electric Power Company

[Docket No. ER01-3005-000]

Take notice that on September 4, 2001, Tucson Electric Power Company tendered for filing with the Federal Energy Regulatory Commission (Commission), a Service Agreement (for firm service) pursuant to Part II of Tucson's Open Access Transmission Tariff, which was filed in Docket No. ER01-208-000.

Service Agreement for Firm Point-to Point Transmission Service dated as of August 9, 2001 by and between Tucson Electric Power Company and Tri-State Generation and Transmission Association, Inc.—FERC Electric Tariff Vol. No. 2, Service Agreement No. 184. No service has commenced at this time.

Comment date: September 25, 2001, in accordance with Standard Paragraph E at the end of this notice.

24. Duquesne Light Company

[Docket No. ER01-3007-000]

Take notice that on September 4, 2001, Duquesne Light Company (DLC) tendered for filing with the Federal Energy Regulatory Commission (Commission), a Service Agreement dated July 20, 2001 with BV Partners under DLC's Open Access Transmission Tariff (Tariff). The Service Agreement adds BV Partners as a customer under the Tariff.

DLC requests an effective date of July 20, 2001 for the Service Agreement.

Comment date: September 25, 2001, in accordance with Standard Paragraph E at the end of this notice.

25. New York Independent System Operator, Inc.

[Docket No. ER01-3009-000]

Take notice that on September 4, 2001, the New York Independent System Operator, Inc. (NYISO), tendered for filing with the Federal Energy Regulatory Commission (Commission), acting pursuant to Section 205 of the Federal Power Act with concurrence of the NYISO's independent Board of Directors (NYISO Board) and the Management Committee, filed proposed revisions to the NYISO's Open Access Transmission Tariff (OATT) and Market Administration and Control Area Services Tariff (Services Tariff). The proposed filing would implement virtual bidding procedures.

The NYISO has requested that the Commission make the filing effective on October 30, 2001.

A copy of this filing was served upon all parties in Docket No. EL00-90-000.

Comment date: September 25, 2001, in accordance with Standard Paragraph E at the end of this notice.

26. Kentucky Utilities Company

[Docket No. ER01-3010-000]

Take notice that on September 4, 2001, Kentucky Utilities Company (KU) submitted for filing, pursuant to Section 205 of the Federal Power Act and Part 35 of the Commission's regulations, a service agreement between KU and the City of Nicholasville, Kentucky for the addition of a new metering point, Substation No. 7, for wholesale power service.

A copy of this filing has been served upon the City of Nicholasville, Kentucky, the Kentucky Public Service Commission, and the Virginia State Corporation Commission.

Comment date: September 25, 2001, in accordance with Standard Paragraph E at the end of this notice.

27. Mid-Continent Area Power Pool

[Docket No. ER01-3011-000]

Take notice that on September 4, 2001, the Mid-Continent Area Power Pool (MAPP), on behalf of its public utility members, filed transmission service agreements (TSAs) under MAPP Schedule F that include short-term firm and non-firm TSAs with non-MAPP members as well as TSAs for long-term firm transmission service.

Comment date: September 25, 2001, in accordance with Standard Paragraph E at the end of this notice.

28. Michigan Electric Transmission Company

[Docket No. ER01-3012-000]

Take notice that on August 31, 2001, Michigan Electric Transmission Company (Michigan Transco) tendered for filing a Distribution-Transmission Interconnection Agreement with Consumers Energy Company (Consumers), with a proposed effective date of April 1, 2001.

The filing was served upon the Consumers and the Michigan Public Service Commission.

Comment date: September 21, 2001, in accordance with Standard Paragraph E at the end of this notice.

29. California Independent System Operator Corporation

[Docket No. ER01-3013-000]

Take notice that on September 5, 2001, the California Independent System Operator Corporation, (ISO), tendered for filing with the Federal Energy Regulatory Commission (Commission), Amendment No. 40 to the ISO Tariff. The ISO states that Amendment No. 40 would implement a temporary modification to the ISO's settlement practices necessitated by the crisis in the California wholesale energy markets.

The ISO states that this filing has been served on the California Public Utilities Commission, the California Electricity Oversight Board and all California ISO Scheduling Coordinators.

Comment date: September 26, 2001, in accordance with Standard Paragraph E at the end of this notice.

30. PJM Interconnection, L.L.C.

[Docket No. ER01-3014-000]

Take notice that on September 5, 2001, PJM Interconnection, L.L.C. (PJM), submitted for filing two executed interconnection service agreements between PJM and Exelon Corporation and Old Dominion Electric Cooperative.

PJM requests a waiver of the Commission's 60-day notice requirement to permit the effective dates agreed to by the parties.

Copies of this filing were served upon each of the parties to the agreements and the state regulatory commissions within the PJM control area.

Comment date: September 26, 2001, in accordance with Standard Paragraph E at the end of this notice.

31. American Transmission Company LLC

[Docket No. ER01-3015-000]

Take notice that on September 5, 2001, American Transmission Company LLC (ATCLLC) tendered for filing Firm and Non-Firm Point-to-Point Service Agreements for Rainbow Energy Marketing Corporation and The Energy Authority, Inc.

ATCLLC requests an effective date of August 14, 2001.

Comment date: September 26, 2001, in accordance with Standard Paragraph E at the end of this notice.

32. Alliant Energy Corporate Services, Inc.

[Docket No. ER01-3016-000]

Take notice that on September 5, 2001, Alliant Energy Corporate Services, Inc. tendered for filing executed generator Interconnection Agreement with Northern Iowa Windpower, LLC and Interstate Power Company.

Alliant Energy Corporate Services, Inc. requests an effective date of September 7, 2001.

A copy of this filing has been served upon the Illinois Commerce Commission, the Minnesota Public Utilities Commission, the Iowa Department of Commerce, and the Public Service Commission of Wisconsin.

Comment date: September 26, 2001, in accordance with Standard Paragraph E at the end of this notice.

33. Coral Canada US Inc.

[Docket No. ER01-3017-000]

Take notice that on September 5, 2001, Coral Canada US Inc. (Seller) petitioned the Commission for an order: (1) Accepting Seller's proposed FERC rate schedule for market-based rates; (2) granting waiver of certain requirements under Subparts B and C of Part 35 of the regulations, and (3) granting the blanket approvals normally accorded sellers permitted to sell at market-based rates.

Comment date: September 26, 2001, in accordance with Standard Paragraph E at the end of this notice.

34. Steam Heat LLC

[Docket No. EG01-302-000]

Take notice that on August 31, 2001, Steam Heat LLC (Steam Heat) filed with the Federal Energy Regulatory Commission (Commission) an application for determination of exempt wholesale generator (EWG) status pursuant to part 365 of the Commission's regulations.

Steam Heat is a Delaware limited liability company. Steam Heat received determinations of EWG status in Docket EG99-121-000 by letter order dated May 7, 1999, Steam Heat LLC, 87 F.E.R.C. ¶ 62,156 (1999), in Docket EG00-17-000 by letter order dated December 14, 1999, Steam Heat LLC, 89 F.E.R.C. ¶ 62,203 (1999), and in Docket EG01-71-000 by letter order dated January 23, 2001, Steam Heat LLC, 94 F.E.R.C. ¶ 62,057 (2001) with respect to its beneficial ownership of nineteen (19) geothermal power generation facilities located in Lake County and Sonoma County, California. Steam Heat is also the indirect beneficial owner of two additional electric generating facilities that are “eligible facilities” within the meaning of Section 32(a)(2) of the Public Utility Holding Company Act of 1935, as amended by Section 711 of the Energy Policy Act of 1992. The Commission has determined that the first facility, Morgantown OL2 LLC, is an EWG. Morgantown OL2 LLC, 94 F.E.R.C. ¶ 62,049 (2001). The Commission did not issue an order on the application for EWG determination for the second facility, Dickerson OL1 LLC within 60 days of the date that the application was filed. Accordingly, the application is deemed granted. 18 CFR 365.6. The instant application reflects that Steam Heat will be acquiring a beneficial ownership interest in one (1) additional geothermal generating facility, the Aidlin Geothermal Project, having a net generating capacity of approximately twenty (20) megawatts, located in Sonoma County, California.

Steam Heat further states that copies of the application were served upon the Securities and Exchange Commission, the Maryland Public Service Commission, the District of Columbia Public Service Commission, and the California Public Utilities Commission.

Comment date: October 3, 2001, in accordance with Standard Paragraph E at the end of this notice. The Commission will limit its consideration of comments to those that concern the adequacy or accuracy of the application.

35. Avista Corporation

[Docket No. ER01-3008-000]

Notice is hereby given that Rate Schedule FERC No. 238, previously filed with the Federal Energy Regulatory Commission (Commission), Avista Corporation, formerly known as The Washington Water Power Company, under the Commission's Docket No. ER96-2608-000, with Snohomish County Public Utility District is to be terminated, effective 0000 hours on October 1, 2001 pursuant to the terms of the Agreement dated September 27, 1995 as agreed to by both parties in letters dated September 1, 2000.

Notice of the cancellation has been served upon the following Snohomish County Public Utility District.

Comment date: September 25, 2001, in accordance with Standard Paragraph E at the end of this notice.

36. Central Illinois Light Company

[Docket No. ER01-3004-000]

Take notice that on September 4, 2001, Central Illinois Light Company (CILCO), tendered for filing with the Federal Energy Regulatory Commission (Commission), a substitute Index of Point-To-Point Transmission Service Customers under its Open Access Transmission Tariff and four service agreements for two new customers, Calpine Energy Services, L.P. and Exelon Generation Company, LLC.

Copies of the filing were served on the affected customers and the Illinois Commerce Commission.

CILCO requested an effective date of August 8, 2001 for the service agreements.

Comment date: September 25, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23284 Filed 9-18-01; 8:45 am]

BILLING CODE 6717-01-P